DEPARTMENT OF AGRICULTURE

Rural Utilities Service

Oglethorpe Power Corporation: Proposed Biomass Power Plant

AGENCY: Rural Utilities Service, USDA.

ACTION: Notice of Availability of a Record of Decision.

SUMMARY: The Rural Utilities Service (RUS) has issued a Record of Decision (ROD) for the Environmental Impact Statement (EIS) related to providing financial assistance to the Oglethorpe Power Corporation (Oglethorpe) for the construction of a 100 megawatt (MW) biomass plant and related facilities (Proposal) in Warren County, Georgia. The Administrator of RUS has signed the ROD, which was effective upon signing. The EIS was prepared pursuant to the National Environmental Policy Act (NEPA) (U.S.C. 4231 et seq.) and in accordance with the Council on Environmental Quality's (CEQ) regulations for implementing the procedural provisions of NEPA (40 CFR Parts 1500-1508) and RUS' Environmental Policies and Procedures (7 CFR part 1794). As the lead federal agency, and as part of its broad environmental review process, RUS must take into account the effect of the Proposal on historic properties in accordance with Section 106 of the National Historic Preservation Act (16 U.S.C. 470f) and its implementing regulation “Protection of Historic Properties” (36 CFR Part 800). Pursuant to 36 CFR 800.2(d)(3), RUS used its procedures for public involvement under NEPA, in part, to meet its responsibilities to solicit and consider the views of the public and other interested parties during the Section 106 review process. Accordingly, comments submitted in the EIS process also informed RUS's decision making in the Section 106 review process. The purpose of the Proposal is to provide a reliable, long-term supply of renewable and sustainable energy at a reasonable cost to meet part of the electric energy needs of Oglethorpe's members.

The Final EIS evaluated the potential environmental impacts of and alternatives to the Project proposed by Oglethorpe for RUS financing to construct the 100 megawatt (MW) biomass plant and related facilities (Proposal) in Warren County, Georgia

ADDRESSES: To obtain copies of the ROD, or for further information, contact: Ms. Stephanie Strength, Environmental Protection Specialist, USDA, Rural Utilities Service, 1400 Independence Avenue SW., Stop 1571, Room 2244-S, Washington, DC 20250-1571, telephone: (970) 403-3559, fax: (202) 690-0649, or email: stephanie.strength@wdc.usda.gov. The ROD is available online at: http://www.rurdev.usda.gov/UWP-OglethorpePower.html and at the: Warren County Public Library, 10 Warren Street, Warrenton, Georgia 30828, Phone (706) 465- 2656.

SUPPLEMENTARY INFORMATION: Oglethorpe proposes to own, operate, and maintain the Proposal in Warren County, Georgia. Three alternatives are evaluated in detail in the Final EIS; the no action alternative, and the proposed action at two different locations: Warren County (the Proposal) and Appling County (the Alternate). These alternatives were evaluated in terms of cost-effectiveness, technical feasibility, and environmental factors (e.g., soils, topography and geology, water resources, air quality, biological resources, the acoustic environment, recreation, cultural and historic resources, visual resources, transportation, farmland, land use, human health and safety, the socioeconomic environment, environmental justice, and cumulative effects).

The Proposal would be constructed on an approximately 343-acre site located three-fourths mile east of the city limit of Warrenton, Georgia. The tallest structure would be the stack, with a maximum estimated height of approximately 220 feet.

A Notice of Availability (NOA) of the Draft EIS was published in the Federal Register at 76 FR 20624, on April 13, 2011, and in newspapers of general circulation within the Proposal's area of environmental impact. Public hearings on the Draft EIS were held in the project area on May 5, 2011, and public comments were accepted through May 31, 2011. All comments on the Draft EIS have been entered into the administrative record, responses are included in the Final EIS, and the Final EIS was modified as appropriate. RUS published its NOA of the Final EIS for the proposed Project in the Federal Register on December 15, 2011 at 76 FR 77963. The U.S. Environmental Protection Agency acknowledged receipt of the Final EIS on December 9, 2011, from RUS. The 30-day waiting period ended on January 9, 2012. Fifteen comments were received that did not result in the need for changes or further comment in RUS's ROD.

RUS carefully studied public health and safety, environmental impacts, and engineering aspects of the Project. Based on an evaluation of the information and impact analyses presented in the EIS, RUS finds that the evaluation of reasonable alternatives is consistent with NEPA and RUS Environmental Policies and Procedures. Details regarding RUS's regulatory authority, rationale for the decision, and compliance with applicable regulations are included in the ROD. Because the proposed Project may involve action in floodplains or wetlands, this Notice also serves as a final notice of action in floodplains and wetlands (in accordance with Executive Orders 11988 and 11990).

This ROD is not a decision on Ogelthorpe's loan application and therefore not an approval of the expenditure of federal funds. This notice of the ROD concludes RUS's environmental review process in accordance with NEPA and RUS's Environmental Policies and Procedures (7 CFR part 1794). The ultimate decision as to loan approval depends upon the conclusion of this environmental review process plus financial and engineering analyses. Issuance of the ROD will allow these reviews to proceed.

Dated: March 15, 2013.
John Charles Padalino,
Acting Administrator, Rural Utilities Service.

[FR Doc. 2013-10861 Filed 5-7-13; 8:45 am]

BILLING CODE P